DEPARTMENT OF ENERGY

Federal Energy Regulatory Commission

Combined Notice of Filings

Take notice that the Commission has received the following Natural Gas Pipeline Rate and Refund Report filings:

Filings Instituting Proceedings

Docket Numbers: RP12-152-000.

Applicants: Northern Natural Gas Company.

Description: 20111115 Miscellaneous Filing to be effective 12/16/2011.

Filed Date: 11/15/2011.

Accession Number: 20111115-5062.

Comment Date: 5 p.m. ET on 11/28/2011.

Docket Numbers: RP12-153-000.

Applicants: Texas Eastern Transmission, LP.

Description: Negotiated Rates Nov. 2011 Cleanup to be effective 12/16/2011.

Filed Date: 11/15/2011.

Accession Number: 20111115-5131.

Comment Date: 5 p.m. ET on 11/28/2011.

Docket Numbers: RP12-154-000.

Applicants: Trailblazer Pipeline Company LLC.

Description: Amended Negotiated Rate Filing—Devon to be effective 9/1/2011.

Filed Date: 11/15/2011.

Accession Number: 20111115-5158.

Comment Date: 5 p.m. ET on 11/28/2011.

Docket Numbers: RP12-155-000.

Applicants: Texas Gas Transmission, LLC.

Description: AEP 31836 Negotiated Rate Agreement Filing to be effective 12/1/2011.

Filed Date: 11/16/2011.

Accession Number: 20111116-5029.

Comment Date: 5 p.m. ET on 11/28/2011.

Docket Numbers: RP12-156-000.

Applicants: Texas Eastern Transmission, LP.

Description: South Jersey 11-16-2011 Negotiated Rate to be effective 11/16/2011.

Filed Date: 11/16/2011.

Accession Number: 20111116-5032.

Comment Date: 5 p.m. ET on 11/28/2011.

Docket Numbers: RP12-157-000.

Applicants: Iroquois Gas Transmission System, L.P.

Description: 11/16/11 Negotiated Rates—Barclays Bank PLC (HUB) to be effective 11/15/2011.

Filed Date: 11/16/2011.

Accession Number: 20111116-5126.

Comment Date: 5 p.m. ET on 11/28/2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2571-001.

Applicants: East Cheyenne Gas Storage, LLC.

Description: ECGS Compliance Filing to be effective 11/1/2011.

Filed Date: 11/15/2011.

Accession Number: 20111115-5122.

Comment Date: 5 p.m. ET on 11/28/2011.

Docket Numbers: RP12-85-001.

Applicants: Gulf South Pipeline Company, LP.

Description: Amendment to RP12-85 to be effective 11/1/2011.

Filed Date: 11/16/2011.

Accession Number: 20111116-5043.

Comment Date: 5 p.m. ET on 11/28/2011.

Docket Numbers: RP11-1982-001.

Applicants: Trunkline Gas Company, LLC.

Description: Compliance with RP11-1982-000 to be effective 11/1/2011.

Filed Date: 11/17/2011.

Accession Number: 20111117-5064.

Comment Date: 5 p.m. Eastern Time on Tuesday, November 29, 2011.

Docket Numbers: RP11-1983-001.

Applicants: Panhandle Eastern Pipe Line Company, LP.

Description: Compliance with RP11-1983-000 to be effective 11/1/2011.

Filed Date: 11/17/2011.

Accession Number: 20111117-5063.

Comment Date: 5 p.m. Eastern Time on Tuesday, November 29, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 17, 2011.
Nathaniel J. Davis, Sr.
Deputy Secretary

[FR Doc. 2011-30207 Filed 11-22-11; 8:45 am]

BILLING CODE 6717-01-P